DEPARTMENT OF ENERGY

Federal Energy Regulatory Commission

[Project No. 10856-079]

Upper Peninsula Power Company; North American Hydro Holdings, LLC; Notice of Application for Transfer of License, and Soliciting Comments and Motions To Intervene

March 24, 2010.

On March 17, 2010, Upper Peninsula Power Company (transferor) and North American Hydro Holdings, LLC (transferee) filed an application for transfer of license of the AuTrain Project, located on the Upper AuTrain River in Alger County, Michigan.

Applicants seek Commission approval to transfer the license for the AuTrain Project from the transferor to the transferee.

Applicant Contact: For transferor Mr. Terry P. Jensky, Upper Peninsula Power Company, 700 N Adams Street, Green Bay, WI 54307, phone (920) 433-2900. For the transferee Mr. Charles F. Alberg, North American Hydro Holdings, LLC, 116 State Street, Neshkoro, WI 54960, phone (920) 293-4628

FERC Contact: Robert Bell, (202) 502-6062.

Deadline for filing comments and motions to intervene: 30 days from the issuance of this notice. Comments and motions to intervene may be filed electronically via the Internet. See 18 CFR 385.2001(a)(1)(iii)(2008) and the instructions on the Commission's website under the “e-Filing” link. If unable to be filed electronically, documents may be paper-filed. To paper-file, an original and eight copies should be mailed to: Kimberly D. Bose, Secretary, Federal Energy Regulatory Commission, 888 First Street, NE., Washington, DC 20426. For more information on how to submit these types of filings please go to the Commission's Web site located at http://www.ferc.gov/filing-comments.asp. More information about this project can be viewed or printed on the eLibrary link of Commission's Web site at http://www.ferc.gov/docs-filing/elibrary.asp. Enter the docket number (P-10856-079) in the docket number field to access the document. For assistance, call toll-free 1-866-208-3372.

Kimberly D. Bose,
Secretary.

[FR Doc. 2010-7141 Filed 3-30-10; 8:45 am]

BILLING CODE 6717-01-P